DEPARTMENT OF COMMERCE

National Oceanic and Atmospheric Administration

U.S. Integrated Ocean Observing System (IOOS®) Advisory Committee Public Meeting Cancelled

AGENCY: U.S. Integrated Ocean Observing System (IOOS®), National Ocean Service (NOS), National Oceanic and Atmospheric Administration (NOAA), Department of Commerce.

ACTION: Notice; cancellation of public meeting.

SUMMARY: On February 21, 2025, the National Oceanic and Atmospheric Administration published a notice in the Federal Register announcing a U.S. Integrated Ocean Observing System (IOOS®) Advisory Committee public meeting to be held from March 12th to March 14th, 2025. This notice announces the cancellation of that public meeting.

FOR FURTHER INFORMATION CONTACT: Krisa Arzayus, Designated Federal Official, U.S. IOOS Advisory Committee, U.S. IOOS Program, Phone 240-533-9455; Email krisa.arzayus@noaa.gov.

Carl C. Gouldman,
Director, U.S. Integrated Ocean Observing System Office, National Ocean Service, National Oceanic and Atmospheric Administration.

[FR Doc. 2025-03696 Filed 3-6-25; 8:45 am]

BILLING CODE 3510-NE-P